DEPARTMENT OF TRANSPORTATION

Federal Aviation Administration

[Docket No. FAA-2001-9119]

Extension of Public Meeting; Commercial Launch Industry

AGENCY: Federal Aviation Administration (FAA), DOT.

ACTION: Notice of Public Meeting.

SUMMARY: The FAA is extending through September 28, 2001, 4:30 p.m. EST an on-line public forum on the Internet seeking comments and information from the public regarding the government's role in supporting the U.S. commercial launch industry. In particular, the FAA is asking whether and why the government should continue to share the risk of liability for commercial launches in the unlikely event of an accident, or consider changes to existing laws. Public views obtained from the on-line forum will be included in a report to Congress on the appropriateness and need to continue current risk-sharing arrangements or modify laws governing liability risk-sharing for commercial launches and reentries beyond December 31, 2004.

DATES: The on-line public forum that began on September 4, 2001, at 9 a.m. EST is extended through September 28, 2001, at 4:30 p.m. EST. Written comments may also be submitted to the docket through September 28, 2001. Comments submitted to the docket after September 28th will be considered and included in the report to the extent practicable; however, the FAA encourages timely submission of comments to facilitate preparation of the report.

ADDRESSES: The on-line public forum can be reached by clicking the “On-Line Public Forum” hyperlink on the Associate Administrator for Commercial Space Transportation's (AST) Internet home page, http://ast.faa.gov. Persons unable to participate in the on-line public forum may mail or deliver views to the U.S. Department of Transportation Dockets, Docket No. FAA-2001-9119, 400 Seventh Street, SW., Washington, DC, 20590. The FAA requests two copies of any written comments. Comments may also be submitted to the docket electronically by sending them to the Documents Management Systems (DMS) at the following Internet address: http://dms.dot.gov/. Comments to the docket should be submitted by September 28, 2001. Comments submitted to the docket may be examined in Room PL 401 at the U.S. Department of Transportation, 400 Seventh Street, SW., Washington, DC, 20590, between 10 a.m. and 5 p.m. weekdays except Federal holidays, and may be viewed by accessing the DMS using the Internet cite noted above.

FOR FURTHER INFORMATION CONTACT: Ms. Esta M. Rosenberg, Senior Attorney-Advisory, Regulations Division, Office of the Chief Counsel, Federal Aviation Administration, U.S. Department of Transportation (202) 366-9320, or Mr. Ronald K. Gress, Manager, Licensing and Safety Division, Associate Administrator for Commercial Space Transportation, Federal Aviation Administration, U.S. Department of Transportation (202) 385-4700.

SUPPLEMENTARY INFORMATION:

Background

The FAA is extending an opportunity for the interested public to provide its perspective, using the Internet, on the appropriate role of government in risk management for commercial space transportation and associated issues concerning U.S. policies in support of a robust commercial launch industry. Through the Internet, a large cross-section of the interested public will be able to share views and information with each other and the FAA, and assist the FAA in compiling the range of perspectives concerning an appropriate risk-sharing regime for commercial space transportation. A docket also remains available for filing written comments, either by mail or electronically, following the instructions listed above under the heading, ADDRESSES.

The on-line public forum will allow electronic discussion of the issues identified for analysis by the Commercial Space Transportation Competitiveness Act of 2000. Background information regarding the Commercial Space Transportation Competitiveness Act of 2000 and liability risk-sharing for commercial space transportation appears in a notice issued July 31, 2001, at 66 FR 39545-39548.

The format and questions presented in the extended “On-Line Public Forum” are the same as those appearing in the July 31 notice. They are reprinted in this notice for ease of reference.

There are two sets of questions. The first set of questions asks, in a general way, for public views concerning government support of the commercial space launch industry. The second set of questions repeats the questions posed in an on-line public forum held April 27-May 11, and addresses the specific elements Congress has required the FAA to study in preparing the report. At the end of the questions, the FAA provides a more “free-style” opportunity for submission of views on matters related to launch liability, risk management and government policies in support of the U.S. commercial space launch industry.

If you would like to participate in the on-line forum, you are not required to answer all of the questions and you are not required to respond to all parts. You may answer as few or as many of the questions as you like, in either or both parts, as well as in the “free-style” section. You may choose to respond only in the “free-style” section and skip over the two sets of questions in Parts I and II entirely. If you choose to respond to a question, please be specific in your answer so that it is clear to the FAA and others who may view the on-line public meeting. To the extent you can, please provide supporting information and the rationale for your answer.

Part I

There are eight questions listed in this part. You may answer none, some or all of them, and then proceed to Part II.

1. Before reading this Notice, were you aware that a commercial launch industry exists in the United States, in addition to government launch capability (e.g., military space programs operated by the Department of Defense and civil space programs administered by NASA), and that private companies offer launch services as a commercial business?

2. Is it important to you that the United States have a successful and internationally competitive commercial launch industry with a significant, if not majority, share of the international launch market, and if so, why? Do you believe there is a benefit to our nation from having a robust commercial launch industry and from being a well-established world leader in space?

3. Before reading this Notice, were you aware that the FAA licenses and regulates commercial launches in the United States?

4. Before reading this Notice, were you aware that launch operators licensed by the FAA are required, by law, to maintain a prescribed amount of liability insurance?

5. Before reading this Notice, were you aware of the government's involvement in providing coverage, that is, “indemnification,” for excess liability over and above that which is covered by the liability insurance a launch operator is required to purchase when conducting a licensed launch in the United States?

6. A government-industry risk sharing arrangement, such as that reflected in the CSLA and described in this Notice, may be unusual for a commercial industry, but it is not unique. For example, indemnification of excess liability is credited with enabling commercial development of the nuclear power industry. Do you think it is important and appropriate for the government to continue to support the U.S. commercial launch industry by having some type of liability risk-sharing program, such as the one described in this Notice, and can you state why?

7. Other governments financially support their launch industry through indemnification commitments. For example, the French Government is responsible for paying damages awarded to victims of Arianespace launches in excess of the insurance obtained by Arianespace. Do you believe that the U.S. Government should continue to have policies and laws, such as the CSLA risk-sharing program described in this Notice, so that U.S. companies can compete on similar terms against their international competitors?

8. If you answered “yes” to Question 7, above, under what circumstances do you believe the U.S. Government should or could stop supporting the U.S. commercial launch industry through risk sharing? What criteria (e.g., market share, technological success, other considerations) would you use in deciding that a risk-sharing arrangement between government and industry is no longer necessary or appropriate?

Part II

Reprinted below are the questions presented in the first Internet public meeting, conducted April 27-May 11. You may answer none, some or all of them, and then proceed to Part III.

1. Could the U.S. commercial space transportation industry compete effectively against non-U.S. launch providers without the existing liability risk-sharing regime?

2. Are the liability risk-sharing regimes of other space-faring countries relevant to the competitiveness of the U.S. space transportation industry? Are there specific elements of particular foreign regimes that you believe provide advantages or benefits to entities that fall under those regimes and the ability of non-U.S. launch providers to compete internationally?

3. Does holding a launch operator strictly liable for the damage or injury that results from its launch hinder the commercialization of space launch capability?

4. By treaty, the U.S. Government accepts absolute liability for damage on the ground or to aircraft in flight outside of the United States when a launch takes place from U.S. territory or facilities. Given the Government's obligations in this regard, does the existing liability risk-sharing regime provide adequate coverage and financial protection for the commercial space transportation industry as well as the Government?

5. U.S. and foreign air carriers operating in the United States are required to maintain insurance coverage in certain minimum amounts covering liability to passengers and persons and property on the ground. For aircraft with more than 60 seats or more than 18,000 pounds of capacity, carriers must maintain third-party accident liability coverage in the minimum amount of $300,000 for any one person other than a passenger and a total of $20 million per involved aircraft for each occurrence. There is no government indemnification in the event claims exceed that amount, nor does the U.S. Government accept treaty-based liability in the event of such damage. At what stage of development and under what circumstances should the airline liability regime become a model for commercial reusable launch vehicles (RLVs) that will routinely take-off and land?

6. The Federal Government's current indemnification policy does not cover risks associated with commercial spaceport operations that do not involve launch vehicles. Do commercial spaceports require a liability risk-sharing regime comparable to that utilized for licensed launches and reentries, even when there is no vehicle-related activity taking place at the spaceport?

7. What factors should the U.S. Congress consider in determining whether to continue as-is, or modify, existing laws in terms of liability risk-sharing for commercial space launch and reentry activities?

8. What suggestions do you have for modifying the existing liability risk-sharing laws applicable to commercial launch and reentry activities?

Part III

This part provides an opportunity for you to express your views and concerns on matters related to launch liability, risk management and government policies in support of the U.S. commercial space launch industry. You are welcome to use this opportunity to inform the FAA of your views regarding U.S. commercial space transportation in general, and the government's role in facilitating and supporting commercial access to space and regulating launch safety.

Issued in Washington, DC, on September 12, 2001.
Patricia Grace Smith,
Associate Administrator for Commercial Space Transportation.

[FR Doc. 01-23420 Filed 9-18-01; 8:45 am]

BILLING CODE 4910-13-P